DEPARTMENT OF VETERANS AFFAIRS

Veterans' Disability Benefits Commission; Notice of Meeting

The Department of Veterans Affairs (VA) gives notice under Public Law 92-463 (Federal Advisory Committee Act) that the Veterans' Disability Benefits Commission has scheduled a meeting for September 13-15, 2006, in the Ballroom of the Beacon Hotel, 1615 Rhode Island Avenue, NW., Washington, DC. The meeting will begin 8:30 a.m. each day. on September 13, the meeting will end at 5 p.m., on September 14 at 4:30 p.m., and on September 15 at 12 noon. the meeting is open to the public.

The purpose of the Commission is to carry out a study of the benefits under the laws of the United States that are provided to compensate and assist veterans and their survivors for disabilities and deaths attributable to military service.

The agenda for September 13 will include updates on the progress of the studies being conducted by the Institute of Medicine (IOM) and the Center for Naval Analyses (CNA). CNA will also present a report of its review of lump sum payments as an option for disability compensation. There will be a presentation by the Veterans Health Administration on environmental and deployment health issues related to presumption of service connection and an overview by Commission staff of the Bradley Commission report.

The agenda for September 14 will include a briefing on the Army's Battle Mind Training program and discussions of the 2006 Older Americans Report and the aging veteran population, as well as initial draft issue papers by Commission staff. Commissioners Cassiday and McGinn will provide a summary of their regional team site visits to the Pacific Northwest and New England. There will also be time set aside on Thursday afternoon, September 14, for public comments.

On September 15, the Commission will receive an update on the VA-DoD Information Technology (IT) initiatives in various stages of development or implementation to foster interoperability between the two agencies' health IT systems. Certification and training for VA Compensation and Pension examiners and the use of templates for these exams will also be addressed.

Interested persons may attend and present oral statements to the Commission on Thursday, September 14. Oral presentations will be limited to five minutes or less, depending on the number of participants. Interested parties may also provide written comments for review by the Commission prior to the meeting or at any time, by e-mail to veterans@vetscommission.intranets.com or by mail to Mr. Ray Wilburn, Executive Director, Veteran's Disability Benefits Commission, 1101 Pennsylvania Avenue, NW., 5th Floor, Washington, DC 20004.

Dated: August 23, 2006.
By Direction of the Secretary.
E. Philip Riggin,
Committee Management Officer.

[FR Doc. 06-7219 Filed 8-29-06; 8:45 am]

BILLING CODE 8320-01-M